DEPARTMENT OF HEALTH AND HUMAN SERVICES

Centers for Disease Control and Prevention

[30Day-47-04]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503 or by fax to (202) 395-6974. Written comments should be received within 30 days of this notice.

Proposed Project

Assessment Information about the National Center for Injury Prevention and Control (NCIPC) Publications—New—National Center for Injury Prevention and Control (NCIPC), Centers for Disease Control and Prevention (CDC).

This project will collect information from Internet users after they order or download a publication from the Web site of the Department of Health and Human Services, Centers for Disease Control and Prevention, National Center for Injury Prevention and Control. CDC, National Center for Injury Prevention and Control produces a variety of publications about injury prevention for a range of audiences, from public health professionals to the general public. Publications include reports to Congress, fact books, brochures, research articles, tool kits, and books. Most of these publications are available to the general public, and the chief distribution method is through the CDC, NCIPC Web site, www.cdc.gov/ncipc. On the Web site, people can order printed copies or view electronic copies of the publications.

It is critical for CDC to obtain feedback from users of their NCIPC publications, so that the information can be used to identify who uses the publications and how. This will help guide the development of future publications, revisions of current ones, as well as distribution of publications. As part of the effort to gain understanding about the audiences of the CDC, NCIPC publications, information will be collected through a web-based form. CDC, NCIPC Web site users will have the opportunity to fill out the form after ordering, downloading, or reading online publications through the Web site. The form contains questions about the demographic background of the users, how they found the Web site, how they plan to use the publication, their need for publications in other languages, the degree to which the publication offerings were useful to them, and space for their general comments. The results of the forms will be compiled and studied so CDC can better consider the needs of people who use the publications in future publication development, revisions, and distribution plans. The estimated annualized burden is 17,026 hours.

Respondents | Number of respondents | Number of responses per respondent | Average burden per response (in hrs.)
Form A | 200,000 | 1 | 5/60
Form B | 21,600 | 1 | 1/60

Dated: April 1, 2004.
Alvin Hall,
Director, Management Analysis and Services Office, Centers for Disease Control and Prevention.

[FR Doc. 04-7937 Filed 4-7-04; 8:45 am]

BILLING CODE 4163-18-P